DEPARTMENT OF COMMERCE

National Oceanic and Atmospheric Administration RIN: 0648-XD29

Gulf of Mexico Fishery Management Council (Council); Public Meetings

AGENCY: National Marine Fisheries Service (NMFS), National Oceanic and Atmospheric Administration (NOAA), Commerce.

ACTION: Notice of public meetings.

SUMMARY: The Gulf of Mexico Fishery Management Council will convene public meetings.

DATES: The meetings will be held October 29 - November 1, 2007.

ADDRESSES: The meetings will be held at the Beau Rivage, 875 Beach Blvd., Biloxi, MS 39530.

Council address: Gulf of Mexico Fishery Management Council, 2203 North Lois Avenue, Suite 1100, Tampa, FL 33607.

FOR FURTHER INFORMATION CONTACT: Wayne E. Swingle, Executive Director, Gulf of Mexico Fishery Management Council; telephone: (813) 348-1630.

SUPPLEMENTARY INFORMATION:

Council

Wednesday, October 31, 2007

2 p.m. - The Council meeting will begin with a review the agenda and minutes.

2:15 pm - 4:15 p.m. - Public testimony on exempted fishing permits (EFPs), if any, and Reef Fish Amendment 30A will be received.

4:15 - 5:15 p.m. - An Open Public Comment Period regarding any fishery issue of concern will be held. People wishing to speak before the Council should complete a public comment card prior to the comment period.

5:15 - 5:30 p.m. - A CLOSED SESSION on Personnel will be held.

Thursday, November 1, 2007

The Council will review and discuss reports from the previous two days' committee meetings as follows:

8:30 a.m. - 10:30 a.m. - Reef Fish Management;

10:30 a.m. - 10:45 a.m. - Joint Reef Fish/Mackerel/Red Drum;

10:45 a.m. - 11 a.m. - Data Collection;

11 a.m. - 11:15 a.m. - Budget/Personnel;

11:15 a.m. - 11:30 a.m. - Spiny Lobster/Stone Crab Management;

1 p.m. - 1:30 p.m. - Red Drum Management;

1:30 p.m. - 2 p.m. - Shrimp Management;

2 p.m. - 2:15 p.m. - Habitat Protection.

2:15 p.m. - 3:15 p.m. - The Council will discuss Other Business items.

3:15 p.m. - 3:30 p.m. - The Council will conclude its meeting with Elections of Chairman and Vice-Chairman.

Committees

Monday, October 29, 2007

9:30 a.m. - 11:30 a.m. - Orientation Session for New Members.

1 p.m. - 5:30 p.m. - The Reef Fish Management Committee will meet to discuss the Scoping Document for Reef Fish Amendment 29 (Grouper IFQ), a Report on Marine Reserves, an Ecosystem Modeling Workshop Report, a Preliminary Public Hearing Draft of Reef Fish Amendment 30B, and a Draft Red Snapper Allocation Discussion Document.

Tuesday, October 30, 2007

8 a.m. - 12 p.m. - The Reef Fish Management Committee will continue with a review of Reef Fish Amendment 30A for Gray Triggerfish/Greater Amberjack and a Goliath Grouper Cooperative Research Project.

1:30 p.m. - 2 p.m. - The Joint Reef Fish/Mackerel/Red Drum Management Committee will meet to discuss a Generic Amendment for Regulation of Offshore Aquaculture.

2 p.m. - 3 p.m. - The Data Collection Committee will meet to discuss reports by the SSC Select Committee on Revision of Marine Recreational Fishery Statistics Survey (MRFSS).

3 p.m. - 4 p.m. - Budget/Personnel Committee will meet to review the Status of 2007 Funding, the 2008 Council Operational Budget and hold a CLOSED SESSION on Personnel.

4 p.m. - 5:30 p.m. - The Red Drum Management Committee will meet to discuss Recommendations for Long-term Research by the Ad Hoc Review Panel for Red Drum.

Wednesday, October 31, 2007

8:30 a.m. - 11 a.m. - The Shrimp Management Committee will hear reports on the Status of the Shrimp Stocks and review data on the 2007 permits and effort.

11 a.m. - 12 p.m. - The Habitat Protection Committee will meet to discuss the Texas and Mississippi/Louisiana Habitat Protection AP's recommendations.

1:30 p.m. - 2 p.m. - The Spiny Lobster/Stone Crab Management Committee will meet to discuss the Draft Public Scoping Document for Spiny Lobster Imported Size Limit.

Although other non-emergency issues not on the agendas may come before the Council and Committees for discussion, in accordance with the Magnuson-Stevens Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date established in this notice.

Special Accommodations

These meetings are physically accessible to people with disabilities. Requests for sign language interpretation or other auxiliary aids should be directed to Tina Trezza at the Council (see ADDRESSES) at least 5 working days prior to the meeting.

Dated: October 9, 2007.
Tracey L. Thompson,
Acting Director, Office of Sustainable Fisheries, National Marine Fisheries Service.

[FR Doc. E7-20168 Filed 10-12-07; 8:45 am]

BILLING CODE 3510-22-S